NATIONAL SCIENCE FOUNDATION

Notice of Permit Applications Received Under the Antarctic Conservation Act of 1978 (Pub. L. 95-541)

AGENCY: National Science Foundation.

ACTION: Notice of Permit Applications Received under the Antarctic Conservation Act of 1978, Pub. L. 95-541.

SUMMARY: The National Science Foundation (NSF) is required to publish notice of permit applications received to conduct activities regulated under the Antarctic Conservation Act of 1978. NSF has published regulations under the Antarctic Conservation Act at title 45 part 670 of the Code of Federal Regulations. This is the required notice of permit applications received.

DATES: Interested parties are invited to submit written data, comments, or views with respect to this permit application by October 27, 2004. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

The applications received are as follows:

Permit Application No. 2005-014

1. Applicant: Harold Heatwole, Department of Zoology, North Carolina State University, Raleigh, NC 27695-7617.

Activity for Which Permit is Requested: Take, and Import into the United States. The applicant proposes to collect up to ten samples each of moss, lichen falli, and soil samples from a variety of Antarctic Peninsula sites. The applicant will extract tardigrades for identification for a comprehensive survey of tardigrade fauna of the Antarctic and the Subantarctic islands. Tardigrade studies have been conducted in other areas of Antarctica and this study will add to the overall body of that work. The moss and lichen samples will ultimately be deposited with the New York Herbarium, whereas the soil samples will be autoclaved and sterilized.

Location: South Shetland Islands, Cuverville Island, Neko Harbor, Paradise Bay, Petermann Island, Port Lockroy, Gerlache Strait, Melchior Islands, Deception Island, and Hannah Point.

Dates: December 19, 2004 to January 1, 2005.

Nadene G. Kennedy,
Permit Officer, Office of Polar Programs.

[FR Doc. 04-21601 Filed 9-24-04; 8:45 am]

BILLING CODE 7555-01-M